DEPARTMENT OF COMMERCE

International Trade Administration

Initiation of Antidumping and Countervailing Duty Administrative Reviews

AGENCY: Import Administration, International Trade Administration, Department of Commerce.

ACTION: Notice of Initiation of Antidumping and Countervailing Duty Administrative Reviews.

SUMMARY: The Department of Commerce (the Department) has received requests to conduct administrative reviews of various antidumping and countervailing duty orders and findings with October anniversary dates. In accordance with the Department's regulations, we are initiating those administrative reviews.

EFFECTIVE DATE: November 19, 2004.

FOR FURTHER INFORMATION CONTACT: Holly A. Kuga, Office of AD/CVD Enforcement, Import Administration, International Trade Administration, U.S. Department of Commerce, 14th Street and Constitution Avenue, NW., Washington, DC 20230, telephone: (202) 482-4737.

SUPPLEMENTARY INFORMATION:

Background

The Department has received timely requests, in accordance with 19 CFR 351.213(b)(2002), for administrative reviews of various antidumping and countervailing duty orders and findings with October anniversary dates.

Initiation of Reviews:

In accordance with section 19 CFR 351.221(c)(1)(i), we are initiating administrative reviews of the following antidumping and countervailing duty orders and findings. We intend to issue the final results of these reviews not later than October 31, 2005.

| Period to be reviewed
Antidumping Duty Proceedings |
Brazil: Carbon and Certain Alloy Steel Wire Rod, A-351-832 | 10/1/03-9/30/04
Companhia Siderurgica Belgo Mineira |
Belgo Mineira Participacao Industria e Comercio S.A. |
BMP Siderurgia S.A. |
Canada: Carbon and Certain Alloy Steel Wire Rod, A-122-840 | 10/1/03-9/30/04
Ivaco Inc., Ivaco Rolling Mills L.P. |
Ispat-Sidbec, Inc. |
Indonesia: Carbon and Certain Alloy Steel Wire Rod, A-560-815 | 10/1/03-9/30/04
P.T Ispat Indo |
Mexico: Carbon and Certain Alloy Steel Wire Rod, A-201-830 | 10/1/03-9/30/04
Hylsa Puebla, S.A. de C.V. |
The People's Republic of China: Helical Spring Lock Washers,¹ A-570-822 | 10/1/03-9/30/04
Hang Zhou Spring Washer Co., Ltd./(aka Zhejiang Wanxin Group Co., Ltd.) |
The People's Republic of China: Polyvinyl Alcohol,² A-570-879 | 3/20/03-9/30/04
Sinopec Sichuan Vinylon Works |
Trinidad and Tobago: Carbon and Certain Alloy Steel Wire Rod, A-274-804 | 10/1/03-9/30/04
Caribbean Ispat Limited |
Countervailing Duty Proceedings |
Canada: Certain Hard Red Spring Wheat, C-122-848 | 3/10/03-12/31/03
Canadian Wheat Board |
Iran: Certain In-Shell Roasted Pistachios, C-507-601 | 1/1/03-12/31/03
Tehran Negah Nima Trading Company, Inc./dba Nima Trading Company |
Suspension Agreements |
Russia: Uranium, A-821-802 | 10/1/03-9/30/04
¹ If one of the above-named companies does not qualify for a separate rate, all other exporters of helical spring lock washers from the People's Republic of China who have not qualified for a separate rate are deemed to be covered by this review as part of the single PRC entity of which the named exporters are a part.
² If one of the above-named companies does not qualify for a separate rate, all other exporters of polyvinyl alcohol from the People's Republic of China who have not qualified for a separate rate are deemed to be covered by this review as part of the single PRC entity of which the named exporters are a part.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistent with FAG Italia v. United States, 291 F.3d 806 (Fed. Cir. 202), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: November 12, 2004.
Holly A. Kuga,
Senior Office Director, Office 4 for Import Administration.

[FR Doc. E4-3262 Filed 11-18-04; 8:45 am]

BILLING CODE 3510-DS-P